DEPARTMENT OF HEALTH AND HUMAN SERVICES

Centers for Disease Control and Prevention

[30DAY-26-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Testing Stigma Reducing Effects of an HIV Storyline—New—National Center for HIV, STD, and TB Prevention (NCHSTP), Centers for Disease Control and Prevention,(CDC). CDC proposes to re-interview a subsample of adults initially interviewed about HIV stigma in the summer of 2000. The original study relied on a new technology, the Web-enabled television, to collect data from individuals in their homes. This same technique will be used to gather data in the proposed study. The information obtained will contribute to an understanding of stigmatizing attitudes, investigate the effectiveness of a stigma-reduction strategy with the potential to reach broadly into a target audience, and guide future research and intervention efforts in this area.

HIV stigma inhibits HIV testing and positive sero-status disclosure, and thus increases the risk of HIV infection. Although there is evidence that in the general population HIV stigmatizing attitudes and beliefs may have decreased somewhat over the last 15 years, there is no information about the stability of HIV stigmatizing attitudes and beliefs over time within the same individuals. Understanding patterns of stigma will make it possible to identify effective strategies for stigma reduction, and these could carry a significant public health benefit.

HIV stigma is a pervasive societal problem, and a meaningful decrease in stigma will require interventions that reach large numbers of people. The electronic mass media reach millions of people and nationally televised broadcasts have been shown to increase knowledge of health issues, promote attitudes and norms that support prevention, and model prevention behaviors. Serialized daytime television dramas may offer some particular advantages for effective dissemination of anti-stigma messages. A large proportion of their audiences, compared with other demographic groups, report getting their health information from television. In addition, the dramatic presentation of health-relevant messages may make them more noticeable and memorable. CDC collaborates with writers of television shows to ensure that the health-related information they present is accurate and timely. After collaboration with CDC officials, a long-running, televised, daytime soap opera introduced a subplot about HIV. The subplot presented information that has the potential to reduce HIV stigmatizing attitudes in viewers. The proposed study will screen all respondents for exposure to this soap opera broadcast and a similar one without an HIV storyline so that the effects of storyline exposure on HIV stigma can be assessed. The annual burden for this data collection is 334 hours.

Respondents | Number of respondents | Number of responses per respondent | Average burden response (in hours)
Adult non-viewers | 3200 | 1 | 5/60
Adult viewers | 400 | 1 | 10/60

Dated: February 6, 2003.
Thomas Bartenfeld,
Acting Associate Director for Policy, Planning and Evaluation, Centers for Disease Control and Prevention.

[FR Doc. 03-3475 Filed 2-11-03; 8:45 am]

BILLING CODE 4163-18-P